DEPARTMENT OF EDUCATION

President's Commission on Excellence in Special Education

AGENCY: President's Commission on Excellence in Special Education, Department of Education.

ACTION: Notice of a public meeting.

SUMMARY: This meeting describes the schedule and agenda of a forthcoming meeting of the President's Commission on Excellence in Special Education (Commission). Notice of this meeting is required under section 10(a)(2) of the Federal Advisory Committee Act in order to notify the public of their opportunity to attend. The Commission's meeting notice is subject to the final appropriation of the Labor, HHS, and Education 2002 budget and may change if this budget is not enacted prior to January 15, 2002.

DATES AND TIMES: Tuesday, January 15, 2002, from 8:30 a.m.-7 p.m.

ADDRESSES: The Commission meeting will be held in Washington, DC. Exact location of hearing is not yet determined because of delays in finalizing meeting logistics.

FOR FURTHER INFORMATION CONTACT: C. Todd Jones, Executive Director, at 202-208-1312 (telephone) or Troy R. Justesen, Deputy Executive Director, at 202-219-0704 (telephone), (202) 208-1953 (fax), troy.justesen@ed.gov (e-mail) or mail: President's Commission on Excellence in Special Education, 80 F Street, NW., Suite 408; Washington, DC 20208.

SUPPLEMENTARY INFORMATION: The Commission is established under Executive Order 13227 (October 2, 2001) to collect information and study issues related to Federal, State, and local special education programs with the goal of recommending policies for improving the educational performance of students with disabilities. In furtherance of its duties, the Commission shall invite experts and members of the public to provide information and guidance. The Commission shall prepare and submit a report to the President outlining its findings and recommendations.

The Commission will discuss current and future activities. Specifically, the Commission will focus on planning future Commission meetings and hearings to be held in location across the nation.

Individuals requiring accommo- dations such as interpreting services, assistive listening devices, materials in alternative formats should notify Troy R. Justesen, at (202) 219-704, no later than January 8, 2002. We will attempt to meet requests after this date, but cannot guarantee availability of the requested accommodation. The meeting site will be accessible to individuals with mobility impairments, including those who use wheelchairs.

Records of all Commission proceedings are available for public inspection at the President's Commission on Excellence in Special Education, 80 F Street, NW., Suite 408; Washington, DC 20208 from 9 a.m. to 5 p.m. (EST).

Dated: December 14, 2001.
C. Todd Jones,
Delegated functions of Assistant Secretary for Office for Civil Rights.

[FR Doc. 01-31259 Filed 12-18-01; 8:45 am]

BILLING CODE 4000-01-M